INTERNATIONAL TRADE COMMISSION

[Investigation No. 337-TA-945]

Certain Network Devices, Related Software and Components Thereof (II) Notice of Correction Concerning; Final Determination of Violation of Section 337; Termination of Investigation; Issuance of Limited Exclusion Order and Cease and Desist Order

AGENCY: U.S. International Trade Commission.

ACTION: Correction.

SUMMARY: Correction is made to notice 82 FR 21827-29 which was published on Wednesday, May 10, 2017, to clarify that the Commission found, inter alia, a violation with respect to claims 1, 2, 4, 5, 7, 8, 10, 13, 18, 56, and 64 of U.S. Patent No. 7,224,668 (“the '668 patent”). Any omission of claim 18 from the list of claims concerning the '668 patent is hereby corrected in the notice of termination and in the Commission opinion.

Issued: May 30, 2017.
Lisa R. Barton,
Secretary to the Commission.

[FR Doc. 2017-11487 Filed 6-2-17; 8:45 am]

BILLING CODE 7020-02-P